DEPARTMENT OF HOMELAND SECURITY

FY 2023 Senior Executive Service Performance Review Boards

AGENCY: Department of Homeland Security.

ACTION: Notice.

SUMMARY: This notice announces the appointment of members of the FY 2023 Senior Executive Service (SES) Performance Review Boards (PRBs) for the Department of Homeland Security (DHS). The purpose of the PRBs is to make recommendations to the appointing authority (i.e., Component Head) on the performance of senior executives (career, noncareer, and limited appointees), including recommendation on performance ratings, performance-based pay adjustments, and performance awards. The PRBs will also make recommendations on the performance of Transportation Security Executive Service, Senior Level, and Scientific and Professional employees. To make its recommendations, the PRBs will review performance appraisals, initial summary ratings, any response by the employee, and any higher-level official's recommendation.

DATES: This Notice is applicable as of October 26, 2023.

FOR FURTHER INFORMATION CONTACT: Christian Fajardo, Human Resources Specialist, Office of the Chief Human Capital Officer, christian.fajardo@hq.dhs.gov, 771-200-0392.

SUPPLEMENTARY INFORMATION: In accordance with 5 U.S.C. 4314(c) and 5 CFR 430.311, each agency must establish one or more PRBs to make recommendations to the appointing authority (i.e., Component Head) on the performance of its senior executives. Each PRB must consist of three or more members. More than one-half of the membership of a PRB must be SES career appointees when reviewing appraisals and recommending performance-based pay adjustments or performance awards for career appointees. Composition of the specific PRBs will be determined on an ad hoc basis from among the individuals listed below:

List of Names (Alphabetical Order)

Abdelall, Brenda

Acosta, Juan L

Adamcik, Carol A

Aguilar, Max

Anguilar, Raul

Alfonso-Royals, Angelica

Alles, Randolph D

Almeida, Corina

Anderson, Sandra D

Antalis, Casie

Antognoli, Anthony

Armstrong, Gloria R

Arratia, Juan

Arvelo, Ivan J

Baidwan, Hemant S

Baker, Jeremy D

Baker, Paul E

Barksdale-Perry, Nicole C

Baroukh, Nader

Barrera, Staci A

Basham, Craig

Beattie, Brien

Belcher, Brian C

Berg, Peter B

Berger, Katrina W

Bhagowalia, Sanjeev

Bible, Daniel A

Bible, Kenneth

Blackwell, Juliana J

Bobich, Jeffrey M

Borka, Robert

Boulden, Laurie

Boyd, John

Brane, Michelle

Braun, Jacob H

Breitzke, Erik P

Brewer, Julie S

Bright, Andrea J

Brito, Roberto

Brown, Allen S

Brown, Roger

Browne, Rene E

Brundage, Christopher

Brundage, William

Bryson, Tony

Bucholtz, Kathleen L

Buetow, Zephranie

Bullock, Edna

Burgess, Kenneth

Burks, Atisha

Burriesci, Kelli A

Burrola, Francisco

Bush, William B

Cagen, Steven W

Caine, Jeffrey

Callahan, Mary Ellen

Cameron, Michael K

Canevari, Holly E

Cantu, John

Canty, Rachel E

Cappello, Elizabeth A

Carabin, David

Carnes, Alexandra

Carpio, Philip F

Carraway, Melvin J

Chaleki, Thomas D

Charles, Marcos

Cheatle, Kimberly A

Cheng, Wen-Ting

Clark, Alaina

Clark, Kenneth N

Cleary, Jennifer S

Cline, Richard K

Cloe, David

Clutter, Mason

Cofield, Valerie

Companion, Tod T

Condon, John

Cook, Charles

Cooper, Ntina K

Corle, Ryan

Corrado, Janene M

Cotter, Daniel

Courey, Marc B

Courtney, Paul

Cox, Adam

Cox, Debra S

Cross, Catherine C

Crumpacker, Jim H

Cullen-Dunbar, Susan

Cummings, Melanie

Cunningham, John D

Dainton, Albert J

Dargan, John L

Das, Sharmistha

Davidson, Andrew

Davidson, Johnathan

Davidson, Michael J

Dawson, Inga I

Dawson, Mark

De La O, Jennifer B

Deloatch, Reshea

Dembling, Ross W

DeMella, Jill

DeNayer, Larry C

DiFalco, Frank J

Dobitsch, Stephanie M

Doherty, Stephanie

Donahue, James L

Doran, Thomas J

Dorr, Robert

Doyle, Kerry

Dragani, Nancy J

Dunlap, James

Durst, Casey O

Ederheimer, Joshua A

Edwards, B. Roland

Ellison, Jennifer

Emrich, Matthew D

Enriquez Mcdivitt, Myriam

Escobar Carrillo, Felicia A

Espinosa, Marsha

Evetts, Mark V

Feder, Steven

Fenton, Jennifer M

Ferraro, Nina M

Fitzmaurice, Stacey D

Fitzpatrick, Ronnyka

Fluty, Larry D

Fong, Heather

Franklin, Tami K

Fujimura, Paul

Gabbrielli, Tina

Gaches, Michael

Gantt, Kenneth D

Garcia, Bobby

Gersten, David

Giles, Thomas

Gladwell, Angela R

Glass, Veronica M

Gorman, Chad M

Gountanis, John

Granger, Christopher

Grazzini, Christopher

Griffin, Steven

Griggs, Christine

Guzman, Nicole

Hall, Christopher J

Hammer, Robert

Harris, Melvin

Harris, Steven

Harrison, Kimberly R

Hartigan, Margaret

Harvey, Melanie K

Hatch, Peter

Havranek, John F

Hayes, Lester

Heinz, Todd W

Henderson, Rachelle B

Hess, David A

Higgins, Jennifer B

Highsmith, AnnMarie R

Hinkle-Bowles, Paige

Hippolyte, Tasha

Holtzer, Christopher R

Holzer, James

Hoover, Crinley S

Horyn, Iwona B

Hott, Russell E

Houser, David L

Howard, Kermit

Howard, Tammy

Hudak, Matthew J

Hughes, Clifford T

Hunter, Adam

Huse, Thomas F

Hysen, Eric

Ingalsbe, James

Jackson, Arnold D

James, Michele M

Jenkins, Donna

Johnson, James V

Jones, Keith M

Kahangama, Iranga A

Katz, Evan C

Kaufman, Steven

Kerner, Francine

Kim, Myung

King, Matthew H

King, Tatum S

Klein, Matthew

Koumans, Marnix R

Kronisch, Matthew L

Kuepper, Andrew

Kuhn, Karen A

Kusnezov, Dimitri F

Lambeth, John

Lamm, Clint A

Lanum, Scott F

Larrimore, David

Lawrence, Jamie

Leckey, Eric

Lee, Grace

Lee, Kimya S

Leonard, John P

Letowt, Philip J

Lewis, James

Logan, Christopher P

Loiacono, Adam V

Lorincz, Csaba I

Luke, Adam

Lundgren, Karen E

Lynch, Steven M

Lynum, Kara

Lyon, Shonnie R

Lyons, Todd

Maday, Brian

Madrigal, Frank

Magrino, Christopher

Maher, Joseph B

Maliga, Ted J

Malik, Irfan

Mancuso, James R

Mandryck, James R

Mapar, Jalal

Marcott, Stacy

Martin, Joseph F

Martinez, Ronnie

Mayoral Del Valle, Ricardo G

McCane, Bobby J

McCleary Stephen

McComb, Richard

McCullar, Shannon

McDermott, Thomas

McDonald, Christina E

McDonough, Bryn

McElwain, Patrick J

McEntee, Jonathan

McGough, Daniel

McGovern, Mary Helen

McLane, JoAnn

Meckley, Tammy M

Medina, Yvonne R

Meyer, Joel T

Meyer, Jonathan

Miles, John D

Miller, Alice

Miller, Gail

Miller, Jonathan P

Mina, Peter E

Miranda, Luis

Moman, C. Christopher

Morant, Cardell T

Morgan, Karlos

Moughon, Timothy N

Munshi, Kaizad J

Murphy, Mark

Murray, Royce

Myers, Heidi Y

Nally, Kevin J

Navarro, Donna M

Nelson, Jason L

Newman, Robert B

Nolan, Connie L

Nunez-Neto, Blas

Nunn, Willie

Ocker, Ronald J

O'Connor, Kimberly

Olsen, Kathleen

Olson, David

Owens, Jason D

Padilla, Kenneth

Pakulniewicz, Tracy

Palmer, David J

Paschall, Robert D

Patel, Kalpesh A

Pavlik-Keenan, Catrina

Perez, Nelson

Perriott, Harvey

Peters, Jenna R

Picarelli, John

Piccone, Colleen C

Pineiro, Marlen

Plantz, Chad

Plati, Michael

Podonsky, Glenn S

Pohlman, Teresa R

Porto, Victoria

Price, Corey A

Prosnitz, Susan M

Quinn, Timothy J

Rabin, John L

Raines, Ariana M

Rapp, Marc A

Rasmussen, Nicholas

Razsi, Dustin R

Rezmovic, Jeffrey M

Ritter, David

Roncone, Stephen A

Rosenblum, Marc R

Rowe Jr., Ronald L

Rubino, Jaclyn

Russell, Anthony

Russell, Gabriel

Rynes, Joel C

Sabatino, Diane J

Sahakian, Diane V

Salazar, Rebecca A

Salazar, Ronald M

Salisbury, Anthony

Saltalamachea, Michael

Salvano-Dunn, Dana

Scanlon, Julie A

Scardaville, Michael

Scott, Kika M

Scudder, Ryan J

Seidman, Ricki

Sequin, Debbie W

Sevier, Adrian

Shearer, Ruth C

Short, Victoria D

Sikorskyj, Lucian

Silas, Z. Traci

Siler, Tracy

Silvers, Robert

Singh, Neil S

Sjoberg-Radway, Cynthia

Skelton, Kerry T

Smith, David M

Smith, Frederick B

Smith, Stacy M

Solnet, Jeffrey

Spillars, Andrea K

Spishak, Cynthia

Stainsby, Leiloni

Stanton, Joshua B

Stephens, Celisa M

Sternhell, Rebecca

Stiefel, Nathaniel I

Stough, Michael S

Street, Stacey

Stuntz, Shelby

Sulc, Brian

Swartz, Neal J

Tabaddor, Afsaneh

Talbot, Eric

Tapscott, Wallicia

Tipton, Ann M

Todd, Sarah

Tomney, Christopher J

Toris, Randolph B

Torres, David M

Try, Gregory W

Turi, Keith

Tutoni, Vincent A

Valverde, Michael

Van Houten, Ann

Venture, Veronica

Vespe, Erin E

Vinograd, Samantha

Wadhia, Shoba

Wainstein, Ken

Walker Hall, Delisa D

Walsh, John

Washington, Karinda

Wasowicz, John A

Watkins, Tracey L

Watson, Andre R

Watson, Daniel

Wawro, Joseph D

Wells, James

Whalen, Mary Kate

Wheaton, Kelly D

Williams, Marta

Wilson, Mario N

Wilson, Miltom D

Wolfe, Herbert

Wong, Sharon M

Wright, Christopher J

Dated: October 23, 2023.
Gregory Ruocco,
Director, Executive Resources, Office of the Chief Human Capital Officer.

[FR Doc. 2023-23684 Filed 10-25-23; 8:45 am]

BILLING CODE 9112-FC-P